DEPARTMENT OF HOMELAND SECURITY

[Docket No. CISA-2024-0034]

Notice of Proposed Information Collection Under the Paperwork Reduction Act: Request for the ChemLock Program

AGENCY: Cybersecurity and Infrastructure Security Agency (CISA), Department of Homeland Security (DHS).

ACTION: 60-Day notice and request for comments.

SUMMARY: The Infrastructure Security Division (ISD) within Cybersecurity and Infrastructure Security Agency (CISA) will submit the following Information Collection Request (ICR) to the Office of Management and Budget (OMB) for review and clearance in accordance with the Paperwork Reduction Act of 1995. The submission proposes a new information collection to support the ChemLock Program.

DATES: Comments are encouraged and will be accepted until March 3, 2025.

Submissions received after the deadline for receiving comments may not be considered.

ADDRESSES: You may submit comments, identified by docket number through the Federal eRulemaking Portal at http://www.regulations.gov. Follow the instructions for sending comments.

Instructions: All comments received must include the agency name “CISA” and docket number CISA-2024-0034. All comments received will be posted without change to http://www.regulations.gov, including any personal information provided.

Comments that include protected information such as trade secrets, confidential commercial or financial information, Chemical-terrorism Vulnerability Information (CVI),¹ Sensitive Security Information (SSI),² or Protected Critical Infrastructure Information (PCII) ³ should not be submitted to the public docket. Comments containing protected information should be appropriately marked and packaged in accordance with all applicable requirements and submission must be coordinated with the point of contact for this notice provided in the FOR FURTHER INFORMATION CONTACT section.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: Annie Hunziker Boyer, 703-603-5000, CISARegulations@mail.cisa.dhs.gov.

SUPPLEMENTARY INFORMATION: Congress established the Cybersecurity and Infrastructure Security Agency (CISA) in the Cybersecurity and Infrastructure Security Act of 2018, Public Law 115-278 (2018). As part of CISA's responsibilities, Congress authorized CISA to provide analyses, expertise, and other assistance to critical infrastructure owners and operators upon request. 6 U.S.C. 652(c)(5).

CISA serves as Sector Risk Management Agency (SRMA) for the Chemical Sector. CISA has established ChemLock, which is voluntary program for facilities that possess dangerous chemicals. This ICR consolidates and clarifies CISA collection of information in support of ChemLock. While some ChemLock services are currently available leveraging other approved information collections, this ICR when approved, will allow for an additional ChemLock service.

CISA proposes three instruments within this information collection: (1) ChemLock Request for Services; (2) ChemLock Service Registration and Preparation; and (3) ChemLock Service Feedback.

ChemLock Program Request for Services

This instrument collects basic contact information from individuals requesting a ChemLock service such as: (a) security consultations; (b) technical consultations, (c) onsite assessments and assistance, (d) exercises and drills, (e) training courses, (f) access to other tailored resources, and (g) risk assessments. In addition, the instrument will collect facility identifying information, facility description information, and information about the chemicals present at the facility.

ChemLock Service Registration and Preparation

This instrument collected information to enable the ChemLock services which need additional information to be performed. The ChemLock services which need additional information to be performed are security consultations, onsite assessments and assistance, and risk assessments.

ChemLock Service Feedback Collection

This instrument will collect information related to feedback about ChemLock related services such as: which ChemLock service was provided and when, program outcomes, satisfaction, and performance of the staff involved in providing the ChemLock service.

ANALYSIS

Agency: Cybersecurity and Infrastructure Security Agency (CISA), Department of Homeland Security (DHS).

Title of Collection: ChemLock.

OMB Control Number: 1670-NEW.

Instrument: ChemLock Program Request for Services.

Frequency: “On occasion” and “Other.”

Affected Public: State, local, Tribal, and Territorial governments and private sector individuals.

Number of Respondents: 450 respondents (estimate).

Estimated Time per Respondent: 0.25 hour.

Total Annual Burden Hours: 112.50 hours.

Total Annual Burden Cost: $10,838.06.

Total Annual Burden Cost (capital/startup): $0.

Total Recordkeeping Burden: $0.

Instrument: ChemLock Service Registration and Preparation.

Frequency: “On occasion” and “Other.”

Affected Public: State, local, Tribal, and Territorial governments and private sector.

Number of Respondents: 300 (estimate).

Estimated Time per Respondent: 3.17 hours.

Total Annual Burden Hours: 952 hours.

Total Annual Burden Cost: $91,714.10.

Total Annual Burden Cost (capital/startup): $0.

Total Recordkeeping Burden: $0.

Instrument: ChemLock Service Feedback.

Frequency: “On occasion” and “Other.”

Affected Public: State, local, Tribal, and Territorial governments and private sector.

Number of Respondents: 225 (estimate).

Estimated Time per Respondent: 0.25 hour.

Total Annual Burden Hours: 56.26 hours.

Total Annual Burden Cost: $5,419.03.

Total Annual Burden Cost (capital/startup): $0.

Total Recordkeeping Burden: $0.

Robert J. Costello,
Chief Information Officer, Department of Homeland Security, Cybersecurity and Infrastructure Security Agency.

[FR Doc. 2024-31370 Filed 12-30-24; 8:45 am]

BILLING CODE 9111-LF-P